DEPARTMENT OF COMMERCE

International Trade Administration

Submission for OMB Review; Comment Request; Correction

Agency: International Trade Administration (ITA). Department of Commerce.

Title: Procedures for Importation of Supplies for Use in Emergency Relief Work.

OMB Control Number: 0625-0256.

Type of Request: Regular Submission.

In the Federal Register of April 11, 2016, FR Vol. 81, No, 69, Page 21315-21316, under Section II. “Method of Collection,” the second line in the paragraph after Attention: should read “Enforcement and Compliance” instead of “Import Administration.”

Dated: June 8, 2016.
Glenna Mickelson,
Management Analyst, Office of the Chief Information Officer.

[FR Doc. 2016-13859 Filed 6-10-16; 8:45 am]

BILLING CODE 3510-FP-P